DEPARTMENT OF ENERGY

Federal Energy Regulatory Commission

Notice of Commission Staff Attendance

The Federal Energy Regulatory Commission (Commission) hereby gives notice that members of the Commission's staff may attend the following meeting related to the transmission planning activities of the New York Independent System Operator, Inc.

The New York Independent System Operator, Inc. Electric System Planning Working Group Meeting

October 29, 2015, 10:00 a.m.-4:00 p.m. (EST)

The above-referenced meeting will be via Web conference and teleconference.

The above-referenced meeting is open to stakeholders.

Further information may be found at: http://www.nyiso.com/public/markets_operations/services/planning/index.jsp.

The New York Independent System Operator, Inc. Electric System Planning Working Group Meeting

November 10, 2015, 10:00 a.m.-4:00 p.m. (EST)

The above-referenced meeting will be via Web conference and teleconference.

The above-referenced meeting is open to stakeholders.

Further information may be found at: http://www.nyiso.com/public/markets_operations/services/planning/index.jsp.

The discussions at the meeting described above may address matters at issue in the following proceedings:

New York Independent System Operator, Inc., Docket No. ER13-102.

ISO New England Inc., et al., Docket Nos. ER13-1957, et al.

ISO New England Inc., Docket Nos. ER13-193 and ER13-196.

New York Independent System Operator, Inc., Docket No. ER15-2059.

New York Power Authority, Docket No. ER15-2102.

New York Transco, LLC, Docket No. ER15-572.

For more information, contact James Eason, Office of Energy Market Regulation, Federal Energy Regulatory Commission at (202) 502-8622 or James.Eason@ferc.gov.

Dated: October 23, 2015.
Nathaniel J. Davis, Sr.,
Deputy Secretary.

[FR Doc. 2015-27675 Filed 10-29-15; 8:45 am]

BILLING CODE 6717-01-P